DEPARTMENT OF LABOR

Agency Information Collection Activities; Submission for OMB Review; Comment Request; Main Fan Operation and Inspection (I-A, II-A, III, and V-A Mines); Correction

ACTION: Notice of availability; correction.

SUMMARY: The Department of Labor (DOL) is correcting a notice that appeared in the Federal Register on May 23, 2025. Subsequent to publication of the notice, the DOL discovered that the Office of Management and Budget (OMB) Control Number listed in the Supplementary Information section was listed incorrectly. DOL is issuing this correction to provide the correct OMB Control Number.

DATES: This correction is effective on June 3, 2025.

FOR FURTHER INFORMATION CONTACT: Michael Howell by telephone at 202-693-6782, or by email at DOL_PRA_PUBLIC@dol.gov.

SUPPLEMENTARY INFORMATION:

Correction

In the Federal Register of Friday, May 23, 2025, in FR. Doc. 2025-09269, on page 22118, in the first column under the SUPPLEMENTARY INFORMATION section, the OMB Control Number is corrected to read “1219-0030”.

Michael Howell,
Senior Paperwork Reduction Act Analyst.

[FR Doc. 2025-09987 Filed 6-2-25; 8:45 am]

BILLING CODE 4510-43-P